DEPARTMENT OF THE DEFENSE

Department of the Army; Corps of Engineers

Intent To Prepare a Draft Environmental Impact Statement for the Port Canaveral Navigation Improvements Section 203 Feasibility Study Located in Brevard County, FL

AGENCY: Department of the Army, U.S. Army Corps of Engineers, DoD.

ACTION: Notice of intent.

SUMMARY: The U.S. Army Corps of Engineers (Corps), Jacksonville District intends to prepare a Draft Environmental Impact Statement (DEIS) for the Port Canaveral Improvements Section 203 Feasibility Study. The study is being conducted by the Canaveral Port Authority under authority granted by section 203 of Water Resources Development Act (WRDA) 1986.

ADDRESSES: U.S. Army Corps of Engineers, Planning Division, Environmental Branch, P.O. 4970, Jacksonville, FL, 32232-0019.

FOR FURTHER INFORMATION CONTACT: Mr. Paul Stodola, by e-mail Paul.E.Stodola@saj02.usace.army.mil or by telephone at (904) 232-3271.

SUPPLEMENTARY INFORMATION: a. Proposed Action. Canaveral Port Authority has elected to conduct a feasibility study of potential improvements under the authority granted by section 203 of WRDA 1986. Section 203 states (in part) that “A non-Federal interest may on its own undertake a feasibility study of a proposed harbor or inland harbor project and submit it to the Secretary of the Army.” Corps of Engineers guidance for implementation of Section 203 is contained in Engineering Regulation (ER) 1165-2-122, August 26, 1991.

b. Objectives. The objectives of the Port Canaveral Navigation Improvements feasibility study are to prepare a Section 203 Study Report that fully complies with all Federal laws and regulations applicable to navigation project General Investigation feasibility studies, and to enable the Assistant Secretary of the Army to make appropriate recommendations to Congress regarding authorization of the Federal navigation improvements project for Port Canaveral.

c. Study Purpose and Need for Action. The purpose of the study is to evaluate modification to the Federal project for improvements to the navigational channels, the west turning basin, and wideners at the port, all of which would result in an increase in the efficiency of cargo vessels and cruise ships using the port. The study will identify and evaluate alternatives that will (2) reduce future congestion at Port Canaveral; (2) accommodate anticipated future growth in vessel traffic; (3) improve the efficiency of operations for cruise ships and cargo vessels within the Port complex; (4) allow for use of the Port by larger, more efficient, cruise ships and cargo vessels; and (5) allow for development of additional terminals/berths without encroaching on the West Turning Basin.

The total Federal project includes, a 41-foot-deep entrance channel and maintenance of the 44-foot-deep Navy Channel in the 41-foot channel reach; a 40-foot deep and 400-foot-wide inner channel; depths of 35 and 39 feet in the middle turning basin; a channel 39 feet deep and 400 feet wide from the middle turning basin west, 1,800 feet, hence a channel 31 feet deep and 400 feet wide to the west turning basin also 31 feet deep; a channel 39 feet deep and 350 feet wide from the middle turning basin and channel north to the end of Berth 4; relocation of the perimeter dike about 4,000 feet westward and extension of the harbor westward; a south entrance jetty 1,100 feet long and an entrance jetty 1,150 long; a barge dock 90 feet wide and 600 feet long west of the harbor dike; and a barge canal 12 feet by 125 feet from the middle turning basin tot he Atlantic Intracoastal Waterway.

The without project condition is for continuation of the same channel depths and dimensions, with maintenance dredging as needed to maintain current authorized depths. Without proposed project improvements the port will continue to experience the following three major problems which greatly impact port operations, safety, and economic viability.

1. The size of cruise ships calling at Port Canaveral is constrained by channel and turning basin dimensions. The potential for future cruise ship terminal expansion cannot be fully exploited under existing channel and turning basin dimensions and configurations. In addition, the increasingly larger cruise ships calling at Port Canaveral are beginning to encroach on the existing west turning basin. Also, passage of large cruise ships through the narrow ship channel causes surges at cargo piers, which result in cargo vessels having to stop loading and unloading activities while the cruise ships pass.

2. The size of cargo vessels calling at Port Canaveral is constrained by existing channel dimensions and configuration. Larger, more efficient vessels could be used for bulk items such as aggregates and cement if channels were improved.

3. Congestion at cargo berths reduces the effectiveness and efficiency of cargo vessels and landside facilities. Given the rapid growth in commodity movements at Port Canaveral, in the very near future a significant proportion of cargo vessels calling at Port Canaveral will have to wait offshore for a berth to become available. Some of these vessels will likely divert to an alternative port, and incur increased transportation costs, if channels are not improved. In addition, landside facilities will stand idle as vessels wait offshore for an available berth.

d. Alternatives. The proposed alternative navigation improvements at Port Canaveral include making no further improvements to the project (no action alternative), deepening ocean access and interior channels to accommodate larger vessels; deepening the turning circles in the west and middle turning basins to accommodate larger vessels; increasing the diameter of the west turning basin to accommodate new larger cruise ships; deepening the widener to accommodate larger cruise ships; and widening interior channels to accommodate larger cruise ships.

e. Issues. The Environmental Impact Statement (EIS) will consider impacts on marine resources, protected species, water quality, fish and wildlife resources, cultural resources, essential fish habitat, socio-economics resources, coastal processes, aesthetics and recreation, and other impacts identified through scoping, public involvement, and agency coordination.

f. Scoping Process. Based on early coordination, the local sponsor determined that an EIS was needed. Scoping meetings were held by the local sponsor with Federal agencies. Additional agency meetings will be held in the coming months. All parties are invited to participate in the scoping process by identifying any additional concerns on issues, studies needed, alternatives, procedures, and other matters related to the scoping process. At this time, there are no plans for a public scoping meeting.

g. Public Involvement. We invite the participation of affected Federal, state and local agencies, affected Indian tribes, and other interested private organizations and parties.

h. Coordination. The proposed action is being coordinated with the U.S. Fish and Wildlife Service under Section 7 of the Endangered Species Act, with the FWS under the Fish and Wildlife Coordination Act, and with the State Historic Preservation Officer.

i. Other Environmental Review and Consultation. The proposed action would involve evaluation for compliance with guidelines pursuant to Section 404(b) of the Clean Water Act; application (to the State of Florida) for Water Quality Certification pursuant to Section 401 of the Clean Water Act; certification of state lands, easements, and rights of way; Essential Fish Habitat with National Marine Fisheries Service; and determination of Coastal Zone Management Act consistency.

j. Agency Role. The non-Federal sponsor (Canaveral Port Authority) will provide extensive information and assistance on the resources to be impacted, mitigation measures, and alternatives. The corps will provide coordination of the EIS process.

k. DEIS Preparation. It is estimated that the DEIS will be available to the public on or about January 2008.

Dated: March 7, 2007.
Stuart J. Appelbaum,
Chief, Planning Division.

[FR Doc. 07-1278 Filed 3-15-07; 8:45 am]

BILLING CODE 3710-AJ-M